DEPARTMENT OF LABOR

Employment and Training Administration

[TA-W-72,933]

Hewlett Packard, Hewlett Packard—Enterprise Business Services, Formerly Known as Electronic Data Systems, Including On-Site Leased Workers From Sun Microsystems, Inc., Dell Computer Corp., EMC Corp., EMC Corp. Total, Cisco Systems Capital Corporation, Microsoft Corp., Symantec Corp., Xerox Corp., VMWare, Inc., Sun Microsystems Federal, Inc., ABM Business Machines, Inc., and Vision IT Pontiac, MI; Amended Certification Regarding Eligibility To Apply for Worker Adjustment Assistance

In accordance with Section 223 of the Trade Act of 1974, as amended (“Act”), 19 U.S.C. 2273, the Department of Labor issued a Certification of Eligibility to Apply for Worker Adjustment Assistance on January 25, 2010, applicable to workers of Hewlett Packard, Hewlett Packard—Enterprise Business Services, formerly known as Electronic Data Systems, including on-site leased workers from the above listed firms, Pontiac, Michigan. The Department's Notice of determination was published in the Federal Register on March 5, 2010 (75 FR 10322). The notice was amended on July 13, 2010 to correct the impact date. The notice was published in the Federal Register on July 26, 2010 (75 43555).

At the request of the petitioners, the Department reviewed the certification for workers of the subject firm. The workers are engaged in activities related to information technology services.

New information shows that workers leased from Vision IT were employed on-site at the Pontiac, Michigan location of Hewlett Packard, Hewlett Packard—Enterprise Business Services, formerly known as Electronic Data Systems. The Department has determined that these workers were sufficiently under the control of Hewlett Packard, Hewlett Packard—Enterprise Business Services, formerly known as Electronic Data Systems to be considered leased workers.

Based on these findings, the Department is amending this certification to include workers leased from Vision IT working on-site at the Pontiac, Michigan location of Hewlett Packard, Hewlett Packard—Enterprise Business Services, formerly known as Electronic Data Systems.

The intent of the Department's certification is to include all workers employed Hewlett Packard, Hewlett Packard—Enterprise Business Services, formerly known as Electronic Data Systems who were adversely affected by the acquisition of information technology services to India.

Accordingly, the Department is amending this certification to properly reflect this matter.

The amended notice applicable to TA-W-72,933 is hereby issued as follows:

All workers of Hewlett Packard, Hewlett Packard—Enterprise—Services, formerly known as Electronic Data Systems, including on-site leased workers from Sun Microsystems, Inc., Dell Computers Corp., EMC Corp., EMC Corp. Total, Cisco Systems Capital Corp., Microsoft Corp., Symantec Corp., Xerox Corp., VMWare, Inc., Sun Microsystems Federal, Inc., ABM Business Machines, Inc., Vision IT, Pontiac, Michigan, who became totally or partially separated from employment on or after June 25, 2008, through January 25, 2012, and all workers in the group threatened with total or partial separation from employment on date of certification through January 25, 2012, are eligible to apply for adjustment assistance under Chapter 2 of Title II of the Trade Act of 1974, as amended.

Signed in Washington, DC, this 8th day of October 2010.
Elliott S. Kushner,
Certifying Officer, Division of Trade Adjustment Assistance.

[FR Doc. 2010-26016 Filed 10-14-10; 8:45 am]

BILLING CODE 4510-FN-P